DEPARTMENT OF LABOR

Employment and Training Administration

[TA-W-53,664]

Owens-Illinois, Inc., Hayward, CA; Notice of Revised Determination on Reconsideration

On May 21, 2004, the Department issued an Affirmative Determination Regarding Application on Reconsideration applicable to workers and former workers of the subject firm. The notice will soon be published in the Federal Register.

On January 29, 2004 the Department initially denied Trade Adjustment Assistance (TAA) to workers of Owens-Illinois, Inc., Hayward, California producing glass containers (glass wine bottles) because the “contributed importantly” group eligibility requirement of section 222 of the Trade Act of 1974 was not met.

On reconsideration, the department reviewed the information provided by the subject firm during the initial investigation. It was revealed that the company official did inform the Department about the shift of production from the subject facility to several domestic plants, including a meaningful shift in plant production to a facility located in Lavington. However, the official did not identify the Lavington plant as being located in Canada, thus this shift to Canada was not taken into consideration during the original investigation.

In accordance with Section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of section 246 of the Trade Act must be met. The Department has determined in this case that the requirements of section 246 have been met.

A significant number of workers at the firm are age 50 or over and possess skills that are not easily transferable. Competitive conditions within the industry are adverse.

Conclusion

After careful review of the facts obtained in the investigation, I determine that there was a shift in production from the workers firm or subdivision to Canada of articles that are like or directly competitive with those produced by the subject firm or subdivision. In accordance with the provisions of the Act, I make the following certification:

All workers of Owens-Illinois, Inc., Hayward, California who became totally or partially separated from employment on or after November 20, 2002 through two years from the date of certification are eligible to apply for adjustment assistance under Section 223 of the Trade Act of 1974, and are also eligible to apply for alternative trade adjustment assistance under Section 246 of the Trade Act of 1974.

Signed in Washington, DC, this 27th day of May, 2004.
Elliott S. Kushner,
Certifying Officer, Division of Trade Adjustment Assistance.

[FR Doc. 04-12885 Filed 6-7-04; 8:45 am]

BILLING CODE 4510-30-P